GENERAL SERVICES ADMINISTRATION

41 CFR Part 102-118

[FMR Case 2005-102-5]

RIN: 3090-AI14

Federal Management Regulation; Transportation Payment and Audit—Use of SF 1113, Public Voucher for Transportation Charges

AGENCY: Office of Governmentwide Policy, General Services Administration (GSA).

ACTION: Proposed rule.

SUMMARY: The General Services Administration proposes to amend the Federal Management Regulation (FMR) to discontinue use of the hard copy, paper construction of Standard Form (SF) 1113, Public Voucher for Transportation Charges, and its memorandum copy, SF 1113-A. Agencies are required to use electronic commerce for receiving bills and paying for transportation and transportation services. By using electronic commerce, the SF 1113 is not needed and is not essential for the transportation service provider to get paid. The FMR and any corresponding documents may be accessed at GSA's website at http://www.gsa.gov/fmr.

DATES: Comment Date: Comments must be received by May 15, 2006.

ADDRESSES: Submit comments identified by FMR case 2005-102-5 by any of the following methods:

• Federal eRulemaking Portal: http://www.regulations.gov. Follow the instructions for submitting comments.

• Agency Web Site: http://www.gsa.gov/fmr. Click on FMR Proposed Rules, and the FMR case number to submit comments.

• E-mail: fmrcase.2005-102-5@gsa.gov. Include FMR case 2005-102-5 in the subject line of the message.

• Fax: 202-501-4067.

• Mail: General Services Administration, Regulatory Secretariat (VIR), 1800 F Street, NW., Room 4035, ATTN: Laurieann Duarte, Washington, DC 20405.

Instructions: Please submit comments only and cite FMR case 2005-102-5 in all correspondence related to this case. All comments received will be posted without change to http://www.gsa.gov/fmr, including any personal information provided. Click on FMR Public Comments.

FOR FURTHER INFORMATION CONTACT: The Regulatory Secretariat, Room 4035, GS Building, Washington, DC 20405, at (202) 208-7312 for information pertaining to status or publication schedules. For clarification of content, contact Ted J. Bembenek, Jr., Office of Governmentwide Policy (MT), at (202) 208-7629. Please cite FMR case 2005-102-5.

SUPPLEMENTARY INFORMATION:

A. Background

As the Government continues to make systematic management improvements across its business lines, use of electronic commerce has become a significant link and critical tool in accomplishing this task. In its role as a Governmentwide policymaker, GSA will use every feasible opportunity to incorporate and promote electronic commerce to the fullest extent of its authority, particularly in relation to the procurement, billing, and payment of transportation services.

In part 102-118 of the Federal Management Regulation (FMR), (41 CFR part 102-118, Transportation Payment and Audit), GSA prescribes Standard Form (SF) 1113 for use by transportation service providers to bill transportation charges to the Government. GSA believes greater efficiencies can be gained for the Government and transportation service providers alike by requiring use of electronic commerce in all areas of transportation. This includes the use of electronic systems for ordering, receiving bills and paying for transportation and transportation services. This requirement will bring the Government closer to achieving a paperless environment and parity with the best business practices used in the private sector. Comments received from an exploratory notice published in the Federal Register at 69 FR 36088, June 28, 2004, generally favored the electronic billing of transportation charges.

B. Substantive Changes

This proposed rule discontinues the requirement for use of the paper construction of Standard Form (SF) 1113, Public Voucher for Transportation Charges, and its memorandum copy, SF 1113-A. Agencies are required to use electronic commerce for receiving bills and paying for transportation and transportation services. By using electronic commerce, the SF 1113 is not needed and is not essential for the transportation service provider to get paid. Paper invoices will no longer be received.

C. Executive Order 12866

GSA has determined that this proposed rule is not a significant rule for the purposes of Executive Order 12866 of September 30, 1993.

D. Regulatory Flexibility Act

This proposed rule is not expected to have a significant economic impact on a substantial number of small entities within the meaning of the Regulatory Flexibility Act, 5 U.S.C. 601, et seq. A regulatory flexibility analysis has therefore not been prepared.

E. Paperwork Reduction Act

The Paperwork Reduction Act does not apply because the proposed rule does not impose recordkeeping or information collection requirements, or the collection of information from offerors, contractors, or members of the public which require the approval of the Office of Management and Budget (OMB) under 44 U.S.C. 3501 et seq.

F. Small Business Regulatory Enforcement Fairness Act

This proposed rule is exempt from Congressional review prescribed under 5 U.S.C. 801 since it relates solely to agency management and personnel.

List of Subjects in 41 CFR Part 102-118

Accounting, Claims, Government property management, Reporting and recordkeeping requirements, Surplus Government property, Transportation.

Dated: February 16, 2006.
John G. Sindelar,
Acting Associate Administrator, Office of Governmentwide Policy.

For the reasons set forth in the preamble, GSA proposes to amend 41 CFR part 102-118 as set forth below:

PART 102-118—TRANSPORTATION PAYMENT AND AUDIT

1. The authority citation for 41 CFR part 102-118 continues to read as follows:

Authority: 31 U.S.C. 3726; and 40 U.S.C. 121(c), and 49 U.S.C. 10721, 13712, and 15504.

2. Revise § 102-118.65 to read as follows:

§ 102-118.65 Is my agency required to use electronic billing for payment and billing of transportation services?

Yes, your agency must use electronic billing for the procurement and billing of transportation services.

§ 102-118.100 [Removed and Reserved]

3. Remove and reserve § 102-118.100.

4. Revise § 102-118.130 to read as follows:

§ 102-118.130 Must my agency use a GBL for express, courier, or small package shipments?

No. However, in using commercial forms, all shipments must be subject to the terms and conditions set forth for the use of a bill of lading for the Government. Any other non-conflicting applicable contracts or agreements between the transportation service provider (TSP) and an agency involving buying transportation services for Government traffic remain binding. When you use GSA's schedule for small package express delivery, the terms and conditions of that contract are binding.

5. Revise § 102-118.195 to read as follows:

§ 102-118.195 What documents must a transportation service provider (TSP) send to receive payment for a transportation billing?

For shipments bought on a transportation document, the transportation service provider (TSP) must submit an original properly certified International Government bill of lading (GBL) or bill of lading. The TSP must submit this package and all supporting documents to the agency paying office.

6. Revise § 102-118.560 to read as follows:

§ 102-118.560 What is the required format that a transportation service provider (TSP) must use to file an administrative claim?

A transportation service provider (TSP) must bill for charges, when deemed necessary by your agency, in the manner prescribed in the “U.S. Government Freight Transportation Handbook” or the “U.S. Government Passenger Transportation Handbook”. To get a copy of these publications, you may write to: General Services Administration, Federal Supply Service Audit Division (FBA), 1800 F Street, NW., Washington, DC 20405, www.gsa.gov/transaudits.

[FR Doc. E6-3578 Filed 3-13-06; 8:45 am]

BILLING CODE 6820-14-S